DEPARTMENT OF THE TREASURY

Office of the Secretary

Notice of Call for Redemption of 13-1/4 Percent Treasury Bonds of 2009-14

AGENCY: Department of the Treasury.

ACTION: Notice.

SUMMARY: As of January 15, 2009, the Secretary of the Treasury gives public notice that all outstanding 13-1/4 percent Treasury Bonds of 2009-14 (CUSIP No. 912810 DJ 4) dated May 15, 1984, due May 15, 2014, are called for redemption at par on May 15, 2009, on which date interest on such bonds will cease.

DATES: Treasury calls such bonds for redemption on May 15, 2009.

FOR FURTHER INFORMATION CONTACT: Definitives Section, Customer Service Branch 3, Office of Retail Securities, Bureau of the Public Debt, (304) 480-7711.

SUPPLEMENTARY INFORMATION: 1. Bonds Held in Registered Form. Owners of such bonds held in registered form should mail bonds for redemption directly to: Bureau of the Public Debt, Definitives Section, Customer Service Branch 3, P.O. Box 426, Parkersburg, WV 26106-0426. Owners of such bonds will find further information regarding how owners must present and surrender such bonds for redemption under this call, in Department of the Treasury Circular No. 300 dated March 4, 1973, as amended (31 CFR part 306); by contacting the Definitives Section, Customer Service Branch 3, Office of Retail Securities, Bureau of the Public Debt, telephone number (304) 480-7711; and by going to the Bureau of the Public Debt's Web site, http://www.treasurydirect.gov.

2. Bonds Held in Book-Entry Form. Treasury automatically will make redemption payments for such bonds held in book-entry form, whether on the books of the Federal Reserve Banks or in Treasury Direct accounts, on May 15, 2009.

Kenneth E. Carfine,
Fiscal Assistant Secretary.

[FR Doc. E9-788 Filed 1-14-09; 8:45 am]

BILLING CODE 4810-40-P